DEPARTMENT OF COMMERCE

International Trade Administration

A-570-504

Petroleum Wax Candles from the People's Republic of China: Notice of Rescission of Antidumping Duty New Shipper Review

AGENCY: Import Administration, International Trade Administration, Department of Commerce.

SUMMARY: On March 28, 2007, the Department of Commerce (“the Department”) published in the Federal Register a notice announcing the initiation of a new shipper review of the antidumping duty order on petroleum wax candles from the People's Republic of China (“PRC”) for Hangzhou Fashion Living Co., Ltd (“Fashion Living”). See Petroleum Wax Candles from the People's Republic of China: Initiation of New Shipper Review, 72 FR 14,521 (March 28, 2007) (“Fashion Living Initiation”). The period of review (“POR”) is August 1, 2006, to January 31, 2007. This review is now being rescinded because Fashion Living withdrew its request in a timely manner.

EFFECTIVE DATE: April 13, 2007.

FOR FURTHER INFORMATION CONTACT: Nicole Bankhead, AD/CVD Operations, Office 9, Import Administration, U.S. Department of Commerce, 14th Street and Constitution Avenue, N.W., Room 4003, Washington, D.C. 20230; telephone: (202) 482-9068.

SUPPLEMENTARY INFORMATION:

Background

On August 28, 1986, the Department published in the Federal Register an antidumping duty order covering petroleum wax candles from the PRC. See Antidumping Duty Order: Petroleum Wax Candles From the People's Republic of China, 51 FR 30686 (August 28, 1986). On February 16, 2007, Fashion Living, requested, in accordance with section 751(a)(2)(B) of the Tariff Act of 1930, as amended (“the Act”), and 19 CFR 351.214(b), that the Department conduct a new shipper review of this antidumping duty order covering the period August 1, 2006, through January 31, 2007.

On March 19, 2007, the Department initiated a new shipper review of Fashion Living. See Fashion Living Initiation. On March 20, 2007, Fashion Living filed a letter withdrawing its request for a new shipper review.

Rescission of Review

The Department's regulations state that if a party that requested a new shipper review withdraws the request within 60 days of the publication of the notice of initiation of the requested review, the Secretary will rescind the review. See 19 CFR 351.214(f)(1). Fashion Living withdrew its new shipper review request within the 60-day deadline. Accordingly, we are rescinding this new shipper review of the antidumping duty order on petroleum wax candles from the PRC for Fashion Living covering the period August 1, 2006, through January 31, 2007.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751(a)(2)(B) and 777(i) of the Act and 19 CFR 351.214(f)(3).

Dated: April 6, 2007.
Stephen J. Claeys,
Deputy Assistant Secretary for Import Administration.

[FR Doc. E7-7051 Filed 4-12-07; 8:45 am]

BILLING CODE 3510-DS-S